DEPARTMENT OF DEFENSE

GENERAL SERVICES ADMINISTRATION

NATIONAL AERONAUTICS AND SPACE ADMINISTRATION

48 CFR Part 22

Application of Labor Laws to Government Acquisitions

CFR Correction

In Title 48 of the Code of Federal Regulations, Chapter 1, Parts 1 to 51, revised as of October 1, 2014, on page 490, in section 22.403-4, at the end of paragraph (a), remove the phrase “The Department of Labor regulations include—”.

[FR Doc. 2015-13057 Filed 5-28-15; 8:45 am]

BILLING CODE 1505-01-D